DEPARTMENT OF THE INTERIOR

Bureau of Indian Affairs

Privacy Act of 1974, as Amended; Amendment of an Existing System of Records

AGENCY: Bureau of Indian Affairs, Interior.

ACTION: Proposed amendment of an existing system of records.

SUMMARY: Under the Privacy Act of 1974, as amended (5 U.S.C. 552a), the Office of the Secretary is issuing public notice of our intent to change an existing Privacy Act system of records notice entitled, Interior BIA-18 “Law Enforcement Services.” The revisions will change the name of the system to Interior BIA-18, “Case Incident Reporting System.” Other changes to Interior BIA-18 include updating data in the following fields: System Locations, Categories of Individuals Covered by the System, Categories of Records in the System, Routine Uses of Records Maintained in the System, Categories of Users and the Purposes of Such Uses, Policies and Practices for Storing, Retrieving, Accessing, Retaining and Disposing of Records in the System.

The Department of the Interior is issuing public notice of its intent to amend portions of an existing Privacy Act system of records subject to the Privacy Act of 1974 (5 U.S.C. 552a). This action is necessary to meet the requirements of the Privacy Act to publish in the Federal Register notice amendment of an existing records systems maintained by the agency (5 U.S.C. 552a(e)(4)).

EFFECTIVE DATE: 5 U.S.C. 552a(e)(11) requires that the public be provided a 30-day period in which to comment on the agency's intended use of the information in the system of records. The Office of Management and Budget, in its Circular A-130, requires an additional 10-day period (for a total of 40 days) in which to make these comments. Any persons interested in commenting on this proposed amendment may do so by submitting comments in writing to the Privacy Act Officer, Bureau of Indian Affairs, U.S. Department of the Interior, P.O. Box 247, Albuquerque, New Mexico 87103. Comments received within 40 days of publication in the Federal Register will be considered. The system will be effective as proposed at the end of the comment period unless comments are received which would require a contrary determination. The Department will publish a revised notice if changes are made based upon a review of comments received.

FOR FURTHER INFORMATION CONTACT: Deputy Bureau Director, Bureau of Indian Affairs (BIA), Office of Law Enforcement Services (OLES), Washington, DC at (202) 208-5787.

SUPPLEMENTARY INFORMATION: The intent of amending this system notice is to accomplish the mission of the BIA, OLES to better clarify previous language, to address administrative changes, and to address the current needs of the agency. The following changes are being proposed to BIA-18: The system location will be changed to reflect an agency reorganization and re-alignment. The name of the system will be changed to more accurately define the information that is contained in the records of this system. The categories of individuals covered by the system will be amended to address both criminal and non-criminal records that the agency collects to perform our law enforcement responsibilities. The categories of records in the system will be amended to be a more complete listing of the information located in our records. The primary purposes of the system will be updated to meet new reporting requirements.

Purposes have also been added that we believe will allow greater access to individuals who need BIA, OLES reports to adjudicate a claim for a loss. The following “Routine Uses” have been changed in order to satisfy the purpose of the system, and to allow greater access to records that are needed by citizens who are served by BIA, OLES programs.

In Routine Use (3), we have added the word “written”. The Routine Use will now read: “To a congressional office in response to a written inquiry an individual covered by the system has made to the congressional office about him or herself.”

Routine Use (4) we have changed to read: “to Federal, State, local, or tribal agencies or contractors where necessary and relevant to the hiring, retention, removal, or processing of a personnel action of an employee or the issuance of a security clearance, contract, license, grant or other benefit.” We added this section to benefit our tribal contract programs that request an Internal Affairs Investigation to take place when a personnel action is required. Routine Use (6) was deleted and subsequent routine uses were renumbered accordingly. Routine Use (6) was deleted because it stated that records could be disclosed to a guardian or guardian ad litem of a child named in the report without differentiating sensitive investigations with material that should be withheld to protect the privacy interest of parties identified in the report. The Privacy Act allows a legal guardian to act on behalf of an individual minor child.

New Routine uses were added to address the recent increase in requests for BIA, OLES reports.

Routine Use (8) says that disclosures outside the Department “for the purpose of providing information on traffic accidents, personal injuries, or the loss or damage of property may be made to: (a) Individuals involved in such incidents; (b) persons injured in such incidents; (c) owners of property damaged, lost or stolen in such incidents; and/or (d) these individuals' duly verified insurance companies, personal representatives, and/or attorneys. The release of information under these circumstances should only occur when it will not: (a) interfere with ongoing law enforcement proceedings, (b) risk the health or safety of an individual, or (c) reveal the identity of an informant or witness that has received an explicit assurance of confidentiality. Social security numbers should not be released under these circumstances unless the social security number belongs to the individual requester.” The intent of this use is to facilitate information flow to parties who need the information to adjudicate a claim.

Routine Use (9) “to Federal, State, local, tribal organizations and contractors for the purpose of incident cause identification and to formulate incident prevention programs for improvement of public safety.” The intent of this routine use is to allow tribal governments the opportunity to develop strategic plans that will address the public safety issues within their respective jurisdiction.

Routine Use (10) “to Federal, State, local, and tribal organizations responsible for the formulation of statistical reports necessary for the continued operation of the program.” This routine use was added to address the need for complete and accurate crime data that is necessary to respond to the Government, Performance, and Results Act.

Routine use (11) “to tribal governments when necessary and relevant to the assumption of a program under Public Law 93-638, the Indian Self-Determination and Education Assistance Act, 25 U.S.C. 450 et seq.” The intent of this routine use is to allow the BIA to transfer files when a tribal government assumes a law enforcement program under the authority of a Public Law 93-638 contract.

Dated: January 3, 2005.
Michael D. Olsen,
Acting Principal Deputy Assistant Secretary—Indian Affairs.

INTERIOR/BIA-18

System name:

Case Incident Reporting System.

System location:

(1) All District, Agency, and Field Offices of the Bureau of Indian Affairs (BIA), Office of Law Enforcement Services (OLES); (2) BIA, OLES, 1849 C Street, NW., MIB, Washington, DC 20240. (For a listing of specific locations, contact the Systems Manager.)

Categories of individuals covered by the system:

Individual complainants in criminal cases, individuals investigated or arrested for criminal or traffic offenses, or certain types of non-criminal incidents, or any person involved in or witnessing incidents requiring the attention of BIA, OLES.

Categories of records in the system:

The files include accident reports and incident reports which may contain any of the following: Name, address, social security number, date of birth, telephone numbers, and other personal identifiers; date and case numbers; related correspondence; fingerprint information; vehicle description and license data; passenger data; insurance data; emergency contact information; law enforcement officers' names; agency identifiers; sketches and/or photographs; hospital and other medical records.

Authority for Maintenance of the System:

25 U.S.C. 1, 1a, 13; 18 U.S.C. 3055; Act of May 10, 1939, 58 Stat. 693; 53 Stat. 520.

Routine uses of records maintained in the system, including categories of users and purposes of such uses:

The primary uses of the records are: (1) To identify incidents in which individuals were involved, (2) to retrieve the report for information for the individual involved, such as accident reports and reports of damaged, lost or stolen property, (3) as a basis for criminal investigations conducted by the Bureau of Indian Affairs, Office of Law Enforcement Services, (4) to assist Federal, State, tribal, and local law enforcement agencies working in areas contiguous to areas under the jurisdiction of the BIA, (5) for the purpose of accident cause identification and to formulate accident prevention programs for improvement in traffic patterns, and (6) to formulate statistical reports necessary for the continued operation of the program.

Disclosures outside the Department of the Interior may be made:

(1) To the U.S. Department of Justice when related to litigation or anticipated litigation;

(2) Of information indicating a violation or potential violation of a statute, regulation, rule, order or license, to appropriate Federal, State, local, foreign, or tribal agencies responsible for investigating or prosecuting the violation or for enforcing or implementing the statute, rule, regulation, order, or license;

(3) To a congressional office in response to a written inquiry an individual covered by the system has made to the congressional office about him or herself;

(4) To Federal, State, local, or tribal agencies or contractors where necessary and relevant to the hiring, retention, removal, or processing of a personnel action of an employee or the issuance of a security clearance, contract, license, grant, or other benefit;

(5) To Federal, State, local, or tribal governmental officials responsible for administering child protective services in carrying out his or her official duties;

(6) To agencies authorized to care for, treat, or supervise abused or neglected children whose policies also require confidential treatment of information;

(7) To members of community child protective teams for the purposes of establishing a diagnosis, formulation of a treatment plan, monitoring the plan, investigating reports of suspected physical child abuse or neglect, and making recommendations to the appropriate court of competent jurisdiction, whose policies also require confidential treatment of information;

(8) For the purpose of providing information on traffic accidents, personal injuries, or the loss or damage of property may be made to: (a) Individuals involved in such incidents; (b) persons injured in such incidents; (c) owners of property damaged, lost or stolen in such incidents; and/or

(d) These individuals' duly verified insurance companies, personal representatives, and/or attorneys. The release of information under these circumstances should only occur when it will not: (a) Interfere with ongoing law enforcement proceedings, (b) risk the health or safety of an individual, or (c) reveal the identity of an informant or witness that has received an explicit assurance of confidentiality. Social security numbers should not be released under these circumstances unless the social security number belongs to the individual requester;

(9) To Federal, State, local, tribal organizations, and contractors for the purpose of incident cause identification and to formulate incident prevention programs for improvement of public safety;

(10) To Federal, State, local, and tribal organizations responsible for the formulation of statistical reports necessary for the continued operation of the program;

(11) To tribal organizations when necessary and relevant to the assumption of a program under Public Law 93-638, the Indian Self-Determination and Education Assistance Act, 25 U.S.C. 450 et seq.

Policies and practices for storing, retrieving, accessing, retaining, and disposing of records in the system:

Storage:

Maintained in manual form in file folders and electronic media such as personal computers.

Retrievability:

Cross referenced by individual's name, case number, and other information linked to the individuals in the report.

Safeguards:

Maintained in accordance with 43 CFR 2.51 Privacy Act safeguards for records. Access is provided on a need-to-know basis only. Manual records are maintained in locked file cabinets under the control of authorized personnel during working hours, and according to the manual maintenance standards identified in Department of the Interior Regulations at 43 CFR 2.51. Electronic records are safeguarded by permissions set to “Authenticated Users” which requires password logon.

Retention and disposal:

Records are maintained in accordance with record retentions outlined in 16 BIAM or the current BIA Records Schedule. Records are retired to the appropriate Federal Records Center in accordance with BIA records management policies.

Systems manager(s) and address:

Deputy Bureau Director, Office of Law Enforcement Services, Bureau of Indian Affairs, United States Department of Interior, 1849 C Street, NW., MIB, Washington, DC 20240.

Systems exempted from certain provisions of the act:

Under the general exemption authority provided by 5 U.S.C. 552a(j)(2), the Department of the Interior has adopted a regulation, 43 CFR 2.79(a), which exempts this system from all of the provisions of 5 U.S.C. 552a and the regulations in 43 CFR part 2, subpart G, except subsections (b), (c)(1) and (2), (e)(4)(A) through (F), (e)(6), (7), (9), (10), and (11) and (i) of 5 U.S.C. 552a and the portions of the regulations in 43 CFR part 2, subpart G, implementing these subsections. The reasons for adoption of this regulation are set out at 40 FR 37317 (August 26, 1975).

[FR Doc. 05-291 Filed 1-5-05; 8:45 am]

BILLING CODE 4310-G5-P